DEPARTMENT OF TRANSPORTATION

Federal Highway Administration

Notice of Final Federal Agency Actions on Transportation Project in North Dakota

AGENCY: Federal Highway Administration (FHWA), DOT.

ACTION: Notice of limitation on claims for judicial review of actions by FHWA and other Federal agencies.

SUMMARY: This notice announces actions taken by FHWA and other Federal agencies that are final. These actions relate to a proposed transportation project, construction of a new crossing over the Little Missouri River, in the counties of Billings and Golden Valley, State of North Dakota. Those actions grant approvals for the project.

DATES: By this notice, FHWA is advising the public of final agency actions subject to 23 U.S.C. 139(l)(1). A claim seeking judicial review of the Federal agency actions on the transportation project will be barred unless the claim is filed on or before December 27, 2019. If the federal law that authorizes judicial review of a claim provides a time period of less than 150 days for filing such claim, then that shorter time period still applies.

FOR FURTHER INFORMATION CONTACT: For FHWA: Gary Goff, Federal Highway Administration, 4503 Coleman Street, Suite 205, Bismarck, ND 58503; email: Gary.Goff@dot.gov; telephone: (701) 221-9466. For the North Dakota Department of Transportation: Kent Leben, North Dakota Department of Transportation, 608 East Boulevard Avenue, Bismarck, ND 58505; email: khleben@nd.gov; telephone: (701) 328-3482; Marcia Lamb, Billings County, P.O. Box 168, Medora, ND 58645; email: mdlamb@nd.gov; telephone: (701) 623-4377. Office hours are from 8:00 a.m. to 5:00 p.m. (Central Time), Monday through Friday, except Federal holidays.

SUPPLEMENTARY INFORMATION: Notice is hereby given that FHWA has taken final agency action(s) subject to 23 U.S.C. 139(l)(1) by issuing a Final Environmental Impact Statement (FEIS)/Record of Decision (ROD) for the following transportation project in the State of North Dakota: Construction of a new crossing over the Little Missouri River (FHWA-ND-EIS-19-01-F). The purpose of the proposed action is to provide users with a safe, efficient, and reliable local connection between the roadways on the east and west sides of the Little Missouri River within Billings County, North Dakota. The actions by the agencies and the laws under which such actions were taken are described in the FEIS for the project, approved on June 6, 2019; the FHWA ROD, issued on June 6, 2019; and other documents in the project records. The FEIS/ROD and other project records are available by contacting the aforementioned points-of-contact.

The FEIS/ROD can also be viewed and downloaded from the project websites at http://www.billingscountynd.gov/190/Little-Missouri-River-Crossing-Project and https://www.dot.nd.gov/projects/dickinson. This notice applies to all Federal agency decisions that are final as of the issuance date of this notice and all laws under which such actions were taken, including but not limited to:

1. General: National Environmental Policy Act [42 U.S.C. 4321-4351], Federal-Aid Highway Act [23 U.S.C. 109 and 23 U.S.C. 128].

2. Air: Clean Air Act [42 U.S.C. 7401-7671q].

3. Land: Section 4(f) of the Department of Transportation Act of 1966 [49 U.S.C. 303; 23 U.S.C. 138], Landscaping and Scenic Enhancement (Wildflowers) [23 U.S.C. 319].

4. Wildlife: Endangered Species Act [16 U.S.C. 1531-1544 and Section 1536], Marine Mammal Protection Act [16 U.S.C. 1361-1423h], Fish and Wildlife Coordination Act [16 U.S.C. 661-667d], Migratory Bird Treaty Act [16 U.S.C. 703-712].

5. Historic and Cultural Resources: Section 106 of the National Historic Preservation Act of 1966, as amended [16 U.S.C. 470f]; Archeological Resources Protection Act of 1977 [16 U.S.C. 470aa-470mm]; Archeological and Historic Preservation Act [16 U.S.C. 469-469c]; Native American Grave Protection and Repatriation Act [25 U.S.C. 3001-3013].

6. Social and Economic: American Indian Religious Freedom Act [42 U.S.C. 1996], Farmland Protection Policy Act [7 U.S.C. 4201-4209].

7. Wetlands and Water Resources: Clean Water Act (Sections 404, 401, and 319) [33 U.S.C. 1251-1387], Land and Water Conservation Fund [16 U.S.C. 4601-4604], Safe Drinking Water Act [42 U.S.C. 300f-300j-26)], Rivers and Harbors Act of 1899 [33 U.S.C. 401-406], Wild and Scenic Rivers Act [16 U.S.C. 1271-1287], Emergency Wetlands Resources Act [16 U.S.C. 3901, 3921], Wetlands Mitigation [23 U.S.C. 119(g) and 133(b)(14)], Flood Disaster Protection Act [42 U.S.C. 4012a, 4106].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders (E.O.): E.O. 11990, Protection of Wetlands; E.O. 11988, Floodplain Management; E.O. 12898, Federal Actions to Address Environmental Justice in Minority Populations and Low-Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.205, Highway Planning and Construction. The regulations implementing E.O. 12372 regarding intergovernmental consultation on Federal programs and activities apply to this program.)

Authority: 23 U.S.C. 139 (l)(1).

Issued on: July 18, 2019.
Sandy Zimmer,
FHWA Acting Division Administrator, Bismarck, North Dakota.

[FR Doc. 2019-15937 Filed 7-29-19; 8:45 am]

BILLING CODE 4910-RY-P